DEPARTMENT OF THE INTERIOR

National Park Service

National Register of Historic Places; Notification of Pending Nominations and Related Actions

Nominations for the following properties being considered for listing or related actions in the National Register were received by the National Park Service before March 24, 2007. Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by April 23, 2007.

J. Paul Loether,
Chief, National Register of Historic Places/National Historic Landmarks Program.

COLORADO

Conejos County

Denver & Rio Grande Railroad San Juan Extension (Boundary Increase), Railway corridor from Antonito, CO to Chama, NM via Cubres Pass, Antonito, 07000374

GEORGIA

Carroll County

Carrollton Downtown Historic District, Roughly around downtown sq. and is bounded by Johnson Ave., White St., Mill St. and Barnes St., Carrollton, 07000378

Lowndes County

Southside Historic District, Roughly bounded by CSX trks, Bunche Dr., Griffin Ave., Old Statenville Rd., Wisenbake Ln., Dasher Ln., and S. Patterson Rd., Valdosta, 07000379

Thomas County

Boston Historic District, Roughly bounded by U.S. 84, Roundtree and S. Oak St., Washington St. and W. Jefferson and W. Railroad Sts., Boston, 07000375

MARYLAND

Wicomico County

Union Station, WI-150, 611 Railroad Ave., Salisbury, 07000389

MICHIGAN

Berrien County

Robbins, Wendell P. and Harriet Rounds, House, 680 Pipestone St., Benton Harbor, 07000385

Kalamazoo County

Fanckboner—Nichols Farmstead, 5992 West VW Ave., Prairie Ronde Township, 07000387

Lenawee County

Davenport Hotel, 1280 US-12, Franklin Township, 07000383

Irish Hills Towers, 8433 W US-12, Cambridge Township, 07000380

Saint Joseph Church and Shrine, 8742 US-12, Cambridge Township, 07000382

Walker's, S., Hotel, 11705 US-12, Cambridge Township, 07000381

Marquette County

Cleveland Mine Engine House Number 3, 601 Division St., Ishpeming, 07000386

MISSOURI

Cass County

Watkins Family Farm Historic District, 19116 S. School Rd., Raymore, 07000376

St. Louis Independent City

Wellston Station, 6111 Dr. Martin Luther King Dr., St. Louis (Independent City), 07000377

NEW MEXICO

Bernalillo County

ATSF Locomotive No. 2926, 1600 Twelfth St. NW., Albuquerque, 07000388

SOUTH CAROLINA

Oconee County

McPhail Angus Farm, 320 Coyote Ln., Seneca, 07000396

VERMONT

Windham County

Bellows Falls Neighborhood Historic District (Boundary Increase), Center St., Front St., Old Terrace St., Pine St., Rockingham, 07000403

VIRGINIA

Accomack County

Willowdale, 18412 Willowdale Dr., Painter, 07000401

Amherst County

Speed the Plough, 389 Fair Lea Ln., Monroe, 07000391

Bedford County

Olive Branch Missionary Baptist Church, 5982 Joppa Mill Rd., Moneta, 07000392

Halifax County

DeJarnette's Tavern, 4080 Stagecoach Rd., Nathalie, 07000398

Staunton River State Park Historic District, 1170 Staunton Trail, Scottsburg, 07000402

Lee County

Keokee Store No. 1, Cty Rd. 606, Keokee, 07000397

Martinsville Independent City

Fayette Street Historic District, Fayette St. and Side Sts. roughly bounded by Market, W. Church, Memorial and Swanson Sts., Martinsville (Independent City), 07000395

Norfolk Independent City

West Point Cemetery, 238 E. Princess Anne Rd., Norfolk (Indpendent City), 07000393

Richmond Independent City

Chamberlayne Gardens, (Federal Housing Administration-Insured Garden Apartments in Richmond, Virginia MPS), 4301-4313 and 4315-4327 Chamberlayne Ave. and 4800-4818 Old Brook Rd., Richmond (Independent City), 07000390

St. Catherine's School, 6001 Grove Ave., Richmond (Independent City), 07000400

Rockingham County

Bon Air, 2477 Bear Lithia Rd., Elkton, 07000399

Tazewell County

Richlands Historic District, Includes portions of Front, Second, Third, Fourth Sts., and Grayson Ave., Lee St., Washington Sq. and Suffolk Ave., Richlands, 07000394

WISCONSIN

Marinette County

Peshtigo Reef Light, (Light Stations of the United States MPS), Offshore in lower Green Bay, approx. 3.3 mi. SE. of Peshtigo Point, Peshtigo Township, 07000404

To assist in the preservation of historic properties the comment period has been shortened to four (4) days.

NEW YORK

Ontario County

Farmington Quaker Crossroads Historic District, (Freedom Trail, Abolitionism, and African American Life in Central New York MPS), Cty Rd. 8 at Sheldon Rd., Farmington, 07000384

[FR Doc. E7-6501 Filed 4-5-07; 8:45 am]

BILLING CODE 4312-51-P